COMMISSION ON CIVIL RIGHTS

Agenda and Notice of Public Meeting of the Rhode Island Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the Rhode Island Advisory Committee to the Commission will convene at 12:00 p.m. (EDT) on Tuesday, June 11, 2019, at Hinckley Allen & Snyder LLP, 100 Westminster Street, Providence, RI 02903. The purpose of the briefing is to hear from advocates and officials about hate crimes in Rhode Island.

DATES: Tuesday, June 11, 2019 at 12:00 p.m. (EDT).

ADDRESSES: Hinckley Allen & Snyder LLP, 100 Westminster St., #1500, Providence, RI 02903.

Public Call Information: Dial: 1-877-260-1479, Conference ID: 7692511.

FOR FURTHER INFORMATION CONTACT: Evelyn Bohor at ero@usccr.gov, or 202-376-7533.

SUPPLEMENTARY INFORMATION: Members of the public may also listen to the discussion through the above listed toll free number. As well as attending in person, any interested member of the public may call the above listed number and listen to the meeting. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Persons who plan to attend the meeting and who require other accommodations, please contact Evelyn Bohor at ebohor@usccr.gov at least ten (10) working days before the scheduled date of the meeting.

Note: To expedite entrance into Hinckley Allen & Snyder, please contact ERO at 202-376-7533 or ero@usccr.gov.

Members of the public are invited to submit written comments; the comments must be received in the regional office by Thursday, July 11, 2019. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at: https://www.facadatabase.gov/FACA/FACAPublicViewCommitteeDetails?id=a10t0000001gzm4AAA. Records generated from this meeting may also be inspected and reproduced at the Eastern Regional Office, as they become available, both before and after the meeting. Persons interested in the work of this advisory committee are advised to go to the Commission's website, www.usccr.gov, or to contact the Eastern Regional Office at the above phone number, email or street address.

Agenda: Tuesday, June 11, 2019; 12:00 p.m. (EDT)

Welcome and Introductions

Briefing on Hate Crimes

Open Comment

Adjourn

Dated: May 13, 2019.
David Mussatt,
Supervisory Chief, Regional Programs Unit.

[FR Doc. 2019-10181 Filed 5-15-19; 8:45 am]

BILLING CODE P